DEPARTMENT OF AGRICULTURE

Rural Housing Service

[Docket No. RHS-21-CF-0020]

Community Facilities Technical Assistance and Training Grant Program for Fiscal Year 2022; Correction

AGENCY: Rural Housing Service, USDA.

ACTION: Notice of solicitation of applications (NOSA); correction.

SUMMARY: The Rural Housing Service (RHS), a Rural Development agency of the United States Department of Agriculture, is correcting a notice of solicitation of applications (NOSA) that was published in the Federal Register on March 14, 2022, entitled, “Community Facilities Technical Assistance and Training Grant Program for Fiscal Year 2022.” The notice announced that it is accepting applications under the Community Facilities Technical Assistance and Training (TAT) Grant program for fiscal year (FY) 2022. The purpose of this notice is to correct the application deadline dates published in the DATES section of the NOSA published in the Federal Register on March 14, 2022.

DATES: April 6, 2022.

FOR FURTHER INFORMATION CONTACT: Nathan Chitwood, Asset Risk Management Specialist, CF Guaranteed Loan Division Department, Community Facilities Programs, Rural Development, Rural Housing Service, United States Department of Agriculture, via email: Nathan.Chitwood@usda.gov or telephone: (573) 876-0965.

SUPPLEMENTARY INFORMATION:

Corrections

In the Federal Register of March 14, 2022, in FR Doc. 2022-05080 (87 FR 14238), make the following corrections:

(1) In the second column of page 14238, amend the DATES section to read as follows:

DATES: Completed applications must be submitted using one of the following methods:

• Paper submissions: The Agency must receive applications in paper, postmarked and mailed, shipped, or sent overnight by 4:00 p.m. local time on May 26, 2022. Applicants intending to mail applications must provide sufficient time to permit delivery on or before the closing deadline date and time. Acceptance by the United States Postal Service or private mailer does not constitute delivery. Facsimile (FAX), electronic mail, and postage due applications will not be accepted. The application dates and times are firm. The Agency will not consider any application received after the deadline.

• Electronic submissions: Electronic applications must be submitted via https://www.grants.gov by 11:59 p.m. Eastern Daylight Savings Time on May 23, 2022.

Prior to official submission of applications, applicants may request application guidance from the Agency, as long as such requests are made prior to May 17, 2022. Technical assistance is not meant to be an analysis or assessment of the quality of the materials submitted, a substitute for agency review of completed applications, nor a determination of eligibility, if such determination requires in-depth analysis.

The Agency will not solicit or consider scoring nor eligibility information that is submitted after the application deadline. The Agency reserves the right to contact applicants to seek clarification information on materials contained in the submitted application.

Additional information about this solicitation of applications can be found on the Grants.gov website at https://www.grants.gov.

The application deadlines are as follows:

1. Applicants may request application guidance from the Agency, as long as such requests are made prior to May 17, 2022.

2. Applicants may request technical assistance or other application guidance from the Agency, as long as such requests are made prior to May 17, 2022.

3. Electronic applications must be submitted via https://www.grants.gov by 11:59 p.m. Eastern Daylight Savings Time on May 23, 2022.

4. The Agency must receive applications in paper, postmarked, and mailed, shipped, or sent overnight by May 26, 2022, 4 p.m., local time.

Joaquin Altoro,
Administrator, Rural Housing Service.

[FR Doc. 2022-07259 Filed 4-5-22; 8:45 am]

BILLING CODE 3410-XV-P